DEPARTMENT OF ENERGY

Federal Energy Regulatory Commission

[Docket No. CP18-535-000]

Southern Star Central Gas Pipeline, Inc.; Notice of Request Under Blanket Authorization

Take notice that on July 31, 2018, Southern Star Central Gas Pipeline, Inc. (Southern Star) 4700 State Highway 56, Owensboro, Kentucky 42301, filed in Docket No. CP18-535-000 a prior notice request pursuant to sections 157.205 and 157.208 of the Commission's regulations under the Natural Gas Act (NGA), and Southern Star's blanket certificate issued in Docket No. CP82-479-000, to increase the maximum allowable operating pressure (MAOP) and maximum operating pressure (MOP) on Southern Star's QB Pipeline (Line QB) in Johnson County, Kansas.

Southern Star states that Line QB is a 26-inch pipeline that runs between the South Glavin Station and the Glavin Station in Johnson County, Kansas, serving the Kansas City Metropolitan area in Kansas and Missouri. Most of Line QB was installed in the late 1940's. Due to the age of the line, the MAOP of Line QB was established under the “Grandfather Clause” of the regulations of the United States Department of Transportation (U.S. DOT), Pipeline and Hazardous Materials Safety Administration (PHMSA). The MAOP of Line QB established under the Grandfather Clause is 260 pounds per square inch gauge (psig). Southern Star avers that Line QB was unintentionally over-pressured due to the failure of a regulator. In response to the increase in pressure above the grandfathered MAOP, Southern Star conducted a hydrostatic pressure test meeting the requirements of PHMSA's regulations. The results of that pressure test support an MAOP of 280 psig, an increase from the 260 psig grandfathered MAOP. Southern Star requests to increase both the MAOP and the MOP of Line QB to 280 psig to match the new MAOP supported by the recent pressure test under PHMSA's regulations.

Southern Star asserts that, like Line QB, its 26-inch Line QC also begins at the South Glavin Station. Line QC has an MAOP/MOP of 280 psig, and both lines have a common source of gas, Southern Star's 26-inch Line Q. Therefore, uprating Line QB to match the pressure on Line QC will allow Southern Star to equalize pressure in Line QB and Line QC to share regulation and essentially be operated as one system and more efficiently.

Southern Star states that no increased capacity is expected to occur, and no additional costs are required to increase the MAOP/MOP of Southern Star's Line QB, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Cindy Thompson, Manager, Regulatory, Southern Star Central Gas Pipeline, Inc., 4700 Highway 56, Owensboro, Kentucky 42301, by telephone at (270) 852-4655, or by email at Cindy.C.Thompson@sscgp.com.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules (18 CFR 157.9), within 90 days of this Notice, the Commission staff will either: complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters, will not receive copies of all documents filed by other parties or issued by the Commission (except for the mailing of environmental documents issued by the Commission) and will not have the right to seek court review of the Commission's final order.

The Commission strongly encourages electronic filings of comments, protests, and interventions in lieu of paper using the “eFiling” link at http://www.ferc.gov. Persons unable to file electronically should submit an original and seven copies of the protest or intervention to the Federal Energy Regulatory Commission, 888 First Street NE, Washington, DC 20426.

Dated: August 8, 2018.
Nathaniel J. Davis, Sr.,
Deputy Secretary.

[FR Doc. 2018-17506 Filed 8-14-18; 8:45 am]

BILLING CODE 6717-01-P